DEPARTMENT OF ENERGY

Federal Energy Regulatory Commission

[Docket No. RP01-158-000]

Midwestern Gas Transmission Company; Notice of Tariff Filing

December 7, 2000.

Take notice that on December 1, 2000, Midwestern Gas Transmission Company (Midwestern), tendered for filing FERC Gas Tariff, Second Revised, Volume 1, Fourth Revised Sheet No. 70 and Third Revised Sheet No. 79, with an effective date of January 1, 2001.

Midwestern states that these revised tariff sheets are being filed in order to revise the invoicing and notice provisions of its FERC Gas Tariff to state the method by which Midwestern will render invoices.

Any person desiring to be heard or to protest said filing should file a motion to intervene or a protest with the Federal Energy Regulatory Commission, 888 First Street, NE., Washington, DC 20426, in accordance with sections 385.214 and 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-31842 Filed 12-13-00; 8:45 am]

BILLING CODE 6717-01-M